NATIONAL AERONAUTICS AND SPACE ADMINISTRATION

[Notice (10-034)]

NASA Advisory Council; Exploration Committee; Meeting

AGENCY: National Aeronautics and Space Administration.

ACTION: Notice of meeting.

SUMMARY: In accordance with the Federal Advisory Committee Act, Public Law 92-463, as amended, the National Aeronautics and Space Administration announces a meeting of the Exploration Committee of the NASA Advisory Council.

DATES: Monday, April 26, 2010, 1 p.m.-5 p.m., and Tuesday, April 27, 2010, 9 a.m.-5 p.m. (All times are Central Daylight Saving Time).

ADDRESSES: Lunar and Planetary Institute, 3600 Bay Area Blvd., Houston, Texas 77058.

FOR FURTHER INFORMATION CONTACT: Ms. Jane Parham, Exploration, Exploration Systems Mission Directorate, National Aeronautics and Space Administration Headquarters, Washington, DC 20546, 202-358-1715; jane.parham@nasa.gov.

SUPPLEMENTARY INFORMATION: The agenda topics for the meeting will include:

• Federal Advisory Committee Act Briefing.

• Ethics Briefing.

• Exploration Systems Mission Directorate (ESMD) Background.

• ESMD Status Overview.

• Exploration Committee 2010 Work Plan Content Overview and Implementation.

The meeting will be open to the public up to the seating capacity of the room. It is imperative that the meeting be held on this date to accommodate the scheduling priorities of the key participants. Visitors will need to sign in and show a valid government-issued picture identification such as driver's license or passport.

For questions, please call Jane Parham at (202) 358-1715.

Dated: March 24, 2010.
P. Diane Rausch,
Advisory Committee Management Officer, National Aeronautics and Space Administration.

[FR Doc. 2010-7126 Filed 3-29-10; 8:45 am]

BILLING CODE 7510-13-P